DEPARTMENT OF TRANSPORTATION

Surface Transportation Board

[STB Finance Docket No. 34391]

New England Transrail, LLC, d/b/a Wilmington and Woburn Terminal Railroad Co.—Construction, Acquisition, and Operation Exemption—In Wilmington and Woburn, MA

AGENCY: Surface Transportation Board.

ACTION: Notice of exemption.

SUMMARY: Under 49 U.S.C. 10502, the Board conditionally exempts from the prior approval requirements of 49 U.S.C. 10901 the construction, acquisition, and operation by New England Transrail, LLC, d/b/a Wilmington and Woburn Terminal Railroad Co. (W&WTR) of a combined total of 4,000 feet of trackage in Wilmington and Woburn, MA. W&WTR proposes to connect the line with two rail lines over which the Boston and Maine Corporation (B&M) provides rail common carrier service.

DATES: The exemption is subject to the Board's further consideration of the anticipated environmental impacts of the proposal and cannot become effective until the environmental review process is completed. Once that process is completed, the Board will issue a further decision addressing the environmental impacts and making the exemption effective at that time, if appropriate, subject to any necessary mitigation conditions. Petitions to reopen must be filed by March 25, 2004.

ADDRESSES: Send comments (an original and 10 copies) referring to STB Finance Docket No. 34391 to: Surface Transportation Board, 1925 K Street, NW., Washington, DC 20423-0001. In addition, send one copy of comments to applicant's representative: John F. McHugh, 6 Water Street, Suite 4001, New York, NY 10004.

FOR FURTHER INFORMATION CONTACT: Joseph H. Dettmar, (202) 565-1600. (Assistance for the hearing impaired is available through the Federal Information Relay Service (FIRS) at 1-800-877-8339.)

SUPPLEMENTARY INFORMATION: Additional information is contained in the Board's decision. To purchase a copy of the full decision, write to, call, or pick up in person from: ASAP Document Solutions, 9332 Annapolis Road, Suite 103, Lanham, MD 20706. Telephone: (301) 577-2600. (FIRS for the hearing impaired: 1-800-877-8339.)

Board decisions and notices are available on the Board's Web site at http://www.stb.dot.gov.

Decided: March 2, 2004.
By the Board, Chairman Nober.
Vernon A. Williams,
Secretary.

[FR Doc. 04-4992 Filed 3-4-04; 8:45 am]

BILLING CODE 4915-01-P